INTERNATIONAL TRADE COMMISSION

[USITC SE-13-027]

Sunshine Act Meeting Notice

AGENCY HOLDING THE MEETING: United States International Trade Commission.

TIME AND DATE: November 7, 2013 at 11:00 a.m.

PLACE: Room 101, 500 E Street SW., Washington, DC 20436, Telephone: (202) 205-2000.

STATUS: Open to the public

MATTERS TO BE CONSIDERED:

1. Agendas for future meetings: none

2. Minutes

3. Ratification List

4. Vote in Inv. Nos. 701-TA-447 and 731-TA-1116 (Review) (Circular Welded Carbon-Quality Steel Pipe from China). The Commission is currently scheduled to complete and file its determinations on or before November 18, 2013; Commissioners' opinions will be issued on November 18, 2013.

5. Outstanding action jackets: none

In accordance with Commission policy, subject matter listed above, not disposed of at the scheduled meeting, may be carried over to the agenda of the following meeting. Earlier notification of this meeting was not possible.

Issued: November 1, 2013
By order of the Commission.
William R. Bishop,
Supervisory Hearings and Information Officer.

[FR Doc. 2013-26696 Filed 11-4-13; 11:15 am]

BILLING CODE 7020-02-P